DEPARTMENT OF HEALTH AND HUMAN SERVICES

Centers for Disease Control and Prevention

[30DAY-51-01]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer, Human Resources and Housing Branch, New Executive Office Building, Room 10235, Washington, DC 20503. Written comments should be received within 30 days of this notice.

Proposed Project: Gonococcal Isolate Surveillance Project (GISP) (0920-0307)—Revision—The National Center for HIV, STD, and TB Prevention (NCHSTP), Centers for Disease Control and Prevention (CDC) proposes to continue data collection for the Gonococcal Isolate Surveillance Project (OMB No. 0920-0307). This request is a three-year extension of clearance.

The purposes of the Gonococcal Isolate Surveillance Project (GISP) are (1) to monitor trends in antimicrobial susceptibility of strains of Neisseria gonorrhoeae in the United States and (2) to characterize resistant isolates. GISP provides critical surveillance for antimicrobial resistance, allowing for informed treatment recommendations. GISP was begun in 1986 as a voluntary surveillance project and now involves five regional laboratories and 26 publicly funded sexually transmitted disease (STD) clinics around the country. The STD clinics submit up to 25 gonococcal isolates per month to the regional laboratories, which measure susceptibility to a panel of antibiotics. Limited demographic and clinical information corresponding to the isolates are submitted directly by the clinics to CDC.

Data gathered through GISP are used to alert the public health community to changes in antimicrobial resistance in Neisseria gonorrhoeae which may impact treatment choices, and to guide recommendations made in CDC's STD Treatment Guidelines, which are published periodically.

Under the GISP protocol, clinics are asked to provide 25 isolates per month. However, due to low volume at some sites, clinics submit an average of 17 isolates per clinic per month, providing an average of 88 isolates per laboratory per month. The estimated time for clinic personnel to abstract data is 11 minutes per response. Based on previous laboratory experience in analyzing gonococcal isolates, we estimate 88 gonococcal isolates per laboratory each month. The estimated burden for each participating laboratory is one hour per response. Annual burden hours for this data collection is 6,300.

Respondents | Number of respondents | Number of responses per respondent | Average burden per response (in hrs.)
Clinic Form 1 | 26 | 204 (12 x 17) | 11/60
Laboratory Form 2 | 5 | 1,056 (12 x 88) | 60/60
Laboratory Form 3 | 5 | 48 (12 x 4) | 12/60

Dated: September 24, 2001.
Nancy E. Cheal,
Acting Associate Director for Policy, Planning and Evaluation, Centers for Disease Control and Prevention.

[FR Doc. 01-24436 Filed 9-28-01; 8:45 am]

BILLING CODE 4163-18-P